SMALL BUSINESS ADMINISTRATION

[Disaster Declaration #12075 and #12076]

Kansas Disaster Number KS-00041

AGENCY: U.S. Small Business Administration.

ACTION: ACTION:

Amendment 1.

SUMMARY: This is an amendment of the Presidential declaration of a major disaster for Public Assistance Only for the State of Kansas (FEMA-1885-DR), dated 03/09/2010.

Incident: Severe Winter Storms and Snowstorm.

Incident Period: 12/22/2009 through 01/08/2010.

DATES: Effective Date: 05/04/2010.

Physical Loan Application Deadline Date: 05/10/2010.

Economic Injury (EIDL) Loan Application Deadline Date: 12/09/2010.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of Kansas, dated 03/09/2010, is hereby amended to include the following areas as adversely affected by the disaster.

Primary Counties: Coffey, Douglas, Geary, Leavenworth, Montgomery, Rooks

All other information in the original declaration remains unchanged.

(Catalog of Federal Domestic Assistance Numbers 59002 and 59008)

James E. Rivera,
Associate Administrator for Disaster Assistance.

[FR Doc. 2010-11207 Filed 5-11-10; 8:45 am]

BILLING CODE 8025-01-P